SMALL BUSINESS ADMINISTRATION

Data Collection Available for Public Comments and Recommendations

ACTION: 60 Day Notice and request for comments.

SUMMARY: In accordance with the Paperwork Reduction Act of 1995, this notice announces the Small Business Administration's intentions to request approval on a new and/or currently approved information collection.

DATES: Submit comments on or before March 26, 2013.

ADDRESSES: Send all comments regarding whether this information collection is necessary for the proper performance of the function of the agency, whether the burden estimates are accurate, and if there are ways to minimize the estimated burden and enhance the quality of the collections, to Gina, Supervisory Administrative Specialist, Office of Disaster, Small Business Administration, 409 3rd Street, 8th Floor, Washington, DC 20416.

FOR FURTHER INFORMATION CONTACT: Gina Beyer, Supervisor Administrative Specialist, 202-205-6458 gina.beyer@sba.gov Curtis B. Rich, Management Analyst, 202-205-7030 curtis.rich@sba.gov.

SUPPLEMENTARY INFORMATION: Disaster loans are authorized upon terms and conditions to (1) assure proper use of proceeds, (2) comply with established recordkeeping requirements, and (3) assure sound credit position. Recordkeeping requirements provide a basis to assure proper use of proceeds and satisfy loan conditions. Respondents are borrowers who must provide necessary certifications of the use of loan proceeds.

Title: ”Borrower's Progress Certification”.

Description of Respondents: Recipients of Disaster Loans.

Form Number: 1366.

Annual Responses: 66,959.

Annual Burden: 33,479.

Curtis Rich,
Management Analyst.

[FR Doc. 2013-01582 Filed 1-24-13; 8:45 am]

BILLING CODE P